DEPARTMENT OF THE INTERIOR

Bureau of Land Management

[MT-030-1320-EL, NDM 95104]

Notice of Competitive Coal Lease Sale, North Dakota

AGENCY: Bureau of Land Management, Interior.

ACTION: Notice of competitive coal lease sale, lease application NDM 95104.

SUMMARY: Notice is hereby given that the United States Department of Interior (DOI), Bureau of Land Management (BLM), Montana State Office, will offer coal reserves in the lands described below in Oliver County, North Dakota, hereinafter described as Federal coal lease application (LBA) NDM 95104 for competitive lease by sealed bid in accordance with the provisions for competitive lease sales in 43 CFR 22.2(a), and the Mineral Leasing Act of 1920, as amended and supplemented (30 U.S.C. 181 et seq.).

DATES: The lease sale will be held at 11 a.m., Tuesday, September 12, 2006. Sealed bids must be sent by certified mail, return receipt requested, or be hand delivered to the address indicated below, and must be received on or before 10 a.m., September 12, 2006.

ADDRESSES: The lease sale will be held in the BLM Montana State Office, 920 Conference Room, 5001 Southgate Drive, Billings, Montana 59101-4669. Sealed bids clearly marked “Sealed Bid for NDM 95104 Coal Sale-Not to be opened before 11 a.m., Tuesday, September 12, 2006” must be submitted to the Cashier, BLM Montana State Office, at the address given above. The cashier will issue a receipt for each hand delivered sealed bid.

FOR FURTHER INFORMATION CONTACT: Connie Schaff, Land Law Examiner, or Rebecca Spurgin, Coal Coordinator, at 406-896-5060 or 406-896-5080, respectively.

SUPPLEMENTARY INFORMATION: This sale is being held in response to a LBA filed by The BNI Coal, Ltd on September 29, 2005. All coal LBAs submitted to BLM for processing prior to November 7, 2005 are not subject to cost recovery on a case-by-case basis (See 43 CFR 3000.10(d)(1), 70 FR 58872, October 7, 2005). The Federal coal resource to be offered consists of all recoverable reserves in the following described lands:

T. 142 N., R. 84 W., 5th P. M.

Sec. 28: W½.

Containing approximately 320 acres in Oliver County, North Dakota.

The LBA's total recoverable coal reserves are estimated to be 8.3 million tons (averaging 15.3 feet in thickness) and the average overburden depth is 100 feet.

The estimated coal quality on an as-received basis is as follows:

BTU | 6,765 BTU/lb.
Volatile Matter | 25.73 %
Fixed Carbon | 28.72 %
Moisture | 38.46 %
Sulfur Content | 0.91 %
Ash Content | 7.09 %

The tracts will be leased to the qualified bidder of the highest cash amount, provided that the high bid meets or exceeds the BLM's pre-sale estimate of fair market value (FMV). No bid that is less than $100 per acre, or fraction thereof, will be considered. The DOI has established a minimum bid of $100 per acre or fraction thereof for Federal coal tracts. The minimum bid is not intended to represent FMV. The FMV will be determined by the Authorized Officer after the sale. In the event identical high sealed bids are received, the tying high bidders will be requested to submit follow-up bids until a high bid is received. All tie-breaking sealed-bids must be submitted within 15 minutes following the Sale Official's announcement at the sale that identical high bids have been received.

A lease issued as a result of this offering will provide for payment of an annual rental of $3 per acre, or fraction thereof; and a royalty payable to the United States of 12.5 percent of the value of coal mined by surface methods and 8.0 percent of the value of coal mined by underground methods. The value of the coal will be determined in accordance with 30 CFR 206.250.

Bidding instructions for the tracts offered and the terms and conditions of the proposed coal lease are included in the Detailed Statement of Lease Sale. Copies of the Detailed Statement and the proposed coal lease are available at the Montana State Office at the address given above. Casefile NDM 95104 is available for inspection at the Montana State Office during normal business hours at the address above.

Dated: July 12, 2006.
Glenwood F. Kerestes,
Acting Chief, Branch of Solid Minerals.

[FR Doc. E6-13608 Filed 8-17-06; 8:45 am]

BILLING CODE 4310-$$-P